FEDERAL MARITIME COMMISSION

Ocean Transportation Intermediary License Revocations

The Commission gives notice that the following Ocean Transportation Intermediary licenses have been revoked pursuant to section 40901 of the Shipping Act of 1984 (46 U.S.C. 40101) effective on the date shown.

License No.: 009931N.

Name: Westwind Transportation Services, Inc. dba Westwind Container Line.

Address: 1225 West 190th Street, Suite 300, Gardena, CA 90248.

Date Revoked: July 16, 2012.

Reason: Failed to maintain a valid bond.

License No.: 022365F.

Name: IVI Freight Systems Inc.

Address: 9112 NW 120th Terrace, Hialeah Gardens, FL 33018.

Date Revoked: July 28, 2012.

Reason: Failed to maintain a valid bond.

License No.: 022773F.

Name: WLI (USA) Inc.

Address: 175-01 Rockaway Blvd., Suite 228, Jamaica, NY 11434.

Date Revoked: July 15, 2012.

Reason: Failed to maintain a valid bond.

Vern W. Hill,
Director, Bureau of Certification and Licensing.

[FR Doc. 2012-20081 Filed 8-15-12; 8:45 am]

BILLING CODE 6730-01-P